DEPARTMENT OF VETERANS AFFAIRS

[OMB Control No. 2900-New (VA Form 10-0511)]

Agency Information Collection (Cooperative Studies Program (CSP): Site Survey and Meeting Evaluation) Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before June 10, 2011.

ADDRESSES: Submit written comments on the collection of information through http://www.Regulations.gov or to VA's OMB Desk Officer, OMB Human Resources and Housing Branch, New Executive Office Building, Room 10235, Washington, DC 20503 (202) 395-7316. Please refer to “OMB Control No. 2900-New (VA Form 10-0511)” in any correspondence.

FOR FURTHER INFORMATION CONTACT: Denise McLamb, Enterprise Records Service (005R1B), Department of Veterans Affairs, 810 Vermont Avenue, NW., Washington, DC 20420, (202) 461-7485, Fax (202) 461-0966 or e-mail denise.mclamb@va.gov. Please refer to “OMB Control No. 2900-New (VA Form 10-0511).”

SUPPLEMENTARY INFORMATION:

Titles:

a. Cooperative Studies Program (CSP) Site Survey, VA Form 10-0511.

b. Cooperative Studies Program (CSP) Meeting Evaluation, VA Form 10-0511a.

OMB Control Number: OMB Control No. 2900-New.

Type of Review: New Collection.

Abstracts:

a. The data collected on VA Form 10-0511 will be used to assist in evaluating the level of customer service within the CSP Coordinating Centers.

b. VA Form 10-0511a will be used to evaluate the effectiveness of the CSP in-person meetings and to identify ways to improve future meetings.

An agency may not conduct or sponsor, and a person is not required to respond to a collection of information unless it displays a currently valid OMB control number. The Federal Register Notice with a 60-day comment period soliciting comments on this collection of information was published on February 18, 2011, at pages 9637-9638.

Affected Public: Individuals or households.

Estimated Annual Burden:

a. Cooperative Studies Program (CSP) Site Survey, VA Form 10-0511—83 hours.

b. Cooperative Studies Program (CSP) Meeting Evaluation, VA Form 10-0511a—83 hours.

Frequency of Response: Annually.

Estimated Average Burden per Respondent:

a. Cooperative Studies Program (CSP) Site Survey, VA Form 10-0511—10 minutes.

b. Cooperative Studies Program (CSP) Meeting Evaluation, VA Form 10-0511a-10 minutes.

Estimated Annual Responses:

a. Cooperative Studies Program (CSP) Site Survey, VA Form 10-0511- 500.

b. Cooperative Studies Program (CSP) Meeting Evaluation, VA Form 10-0511a—500.

Dated: May 5, 2011.
By direction of the Secretary.
Denise McLamb,
Program Analyst, Enterprise Records Service.

[FR Doc. 2011-11468 Filed 5-10-11; 8:45 am]

BILLING CODE 8320-01-P